NATIONAL LABOR RELATIONS BOARD

Sunshine Act Meetings: August 2014

TIME AND DATES:

All meetings are held at 2:00 p.m.

Tuesday, August 5;

Wednesday, August 6;

Thursday, August 7;

Tuesday, August 12;

Wednesday, August 13;

Thursday, August 14;

Tuesday, August 19;

Wednesday, August 20;

Thursday, August 21;

Tuesday, August 26;

Wednesday, August 27;

Thursday, August 28.

PLACE: Board Agenda Room, No. 11820, 1099 14th St. NW., Washington, DC 20570.

STATUS: Closed.

MATTERS TO BE CONSIDERED: Pursuant to § 102.139(a) of the Board's Rules and Regulations, the Board or a panel thereof will consider “the issuance of a subpoena, the Board's participation in a civil action or proceeding or an arbitration, or the initiation, conduct, or disposition . . . of particular representation or unfair labor practice proceedings under section 8, 9, or 10 of the [National Labor Relations] Act, or any court proceedings collateral or ancillary thereto.” See also 5 U.S.C. 552b(c)(10).

CONTACT PERSON FOR MORE INFORMATION: Henry Breiteneicher, Associate Executive Secretary, (202) 273-2917.

Dated: August 6, 2014.
William B. Cowen,
Solicitor.

[FR Doc. 2014-18923 Filed 8-6-14; 4:15 pm]

BILLING CODE 7545-01-P